DEPARTMENT OF ENERGY

Federal Energy Regulatory Commission

Combined Notice of Filings #1

May 18, 2009.

Take notice that the Commission received the following exempt wholesale generator filings:

Docket Numbers: EG09-42-000.

Applicants: Astoria Energy II LLC.

Description: Notice of EWG Self-Certification of Astoria Energy II LLC.

Filed Date: 05/15/2009.

Accession Number: 20090515-5079.

Comment Date: 5 p.m. Eastern Time on Friday, June 5, 2009.

Take notice that the Commission received the following electric rate filings:

Docket Numbers: ER96-719-025; ER97-2801-026; ER99-2156-018.

Applicants: MidAmerican Energy Company; PacifiCorp; Cordova Energy Company LLC.

Description: MidAmerican Energy Company et al. submits revisions to their respective market based rate tariffs.

Filed Date: 05/15/2009.

Accession Number: 20090518-0124.

Comment Date: 5 p.m. Eastern Time on Friday, June 5, 2009.

Docket Numbers: ER03-762-012; ER03-533-004.

Applicants: Alliant Energy Corporate Services, Inc.; Alliant Energy Neenah, LLC.

Description: Updated Market Power Analysis of Alliant Energy Corporate Services, Inc and Alliant Energy Neenah, LLC.

Filed Date: 05/14/2009.

Accession Number: 20090518-0066.

Comment Date: 5 p.m. Eastern Time on Thursday, June 4, 2009.

Docket Numbers: ER07-46-004; ER08-332-003; OA07-7-003; OA08-72-003.

Applicants: NorthWestern Corporation.

Description: NorthWestern Corporation submits Substitute First Revised Sheet 73A et al. to FERC Electric Tariff, Seventh Revised Volume 5.

Filed Date: 05/11/2009.

Accession Number: 20090512-0047.

Comment Date: 5 p.m. Eastern Time on Monday, June 1, 2009.

Docket Numbers: ER09-409-002.

Applicants: WestConnect.

Description: Public Service Company of Colorado submits First Revised Volume No 7 to the WestConnect point to point regional transmission service experiment tariff of PSCo et al.

Filed Date: 05/15/2009.

Accession Number: 20090518-0103.

Comment Date: 5 p.m. Eastern Time on Friday, June 5, 2009.

Docket Numbers: ER09-626-002.

Applicants: Participating Transmission Owners Administrative Committee.

Description: PTO Administrative Committee submits revised compliance filing to incorporate by reference into their sections of the ISO Tariff of the Wholesale Electric Quadrant Standard 012, etc.

Filed Date: 05/15/2009.

Accession Number: 20090518-0104.

Comment Date: 5 p.m. Eastern Time on Friday, June 5, 2009.

Docket Numbers: ER09-666-002; ER09-667-002; ER09-668-002; ER09-669-002; ER09-670-002; ER09-671-002.

Applicants: EDFD-Handsome Lake; EDFD-Perryman; EDFD-Keystone; EDFD-Conemaugh; EDFD-C.P. Crane; EDFD-West Valley.

Description: EDFD Subsidiaries submits compliance filing in accordance with the Commission's 3/16/09 letter order.

Filed Date: 05/15/2009.

Accession Number: 20090518-0101.

Comment Date: 5 p.m. Eastern Time on Friday, June 5, 2009.

Docket Numbers: ER09-757-001.

Applicants: Midwest Independent Transmission System Operator, Inc.

Description: Midwest ISO submits revisions to its Open Access Transmission, Energy and Operating Reserve Markets Tariff.

Filed Date: 05/15/2009.

Accession Number: 20090518-0102.

Comment Date: 5 p.m. Eastern Time on Friday, June 5, 2009.

Docket Numbers: ER09-760-001.

Applicants: Red Shield Acquisition, LLC.

Description: Red Shield Acquisition, LLC resubmits the integrated Agreement with the designation information required by Order No. 614.

Filed Date: 05/14/2009.

Accession Number: 20090515-0106.

Comment Date: 5 p.m. Eastern Time on Thursday, June 4, 2009.

Docket Numbers: ER09-838-000.

Applicants: Entegra Power Services LLC.

Description: Entegra Power Services LLC responds to FERC's 4/22/09 letter providing Gila River's updated market power analysis for reviewing the application for market-based rates filed on 3/13/09.

Filed Date: 05/13/2009.

Accession Number: 20090515-0119.

Comment Date: 5 p.m. Eastern Time on Wednesday, June 3, 2009.

Docket Numbers: ER09-1118-000.

Applicants: Sesco Caliso, LLC.

Description: SESCO CALISO, LLC submits an Application for Market-based Rate Authority.

Filed Date: 05/14/2009.

Accession Number: 20090515-0120.

Comment Date: 5 p.m. Eastern Time on Thursday, June 4, 2009.

Docket Numbers: ER09-1120-000.

Applicants: Wisconsin Public Service Corporation.

Description: Wisconsin Public Service Corporation amendments to update the FERC Form 1 reference in its formula rates for the W-1A Tariff for full requirements service etc.

Filed Date: 05/11/2009.

Accession Number: 20090512-0048.

Comment Date: 5 p.m. Eastern Time on Monday, June 1, 2009.

Docket Numbers: ER09-1124-000.

Applicants: Midwest Independent Transmission System Operator, Inc.

Description: Midwest Independent Transmission System Operator, Inc submits its Request to Terminate the Market Participant Agreement with Midwest Virtual Power Specialists and Notice Regarding Continuing & Anticipated Default.

Filed Date: 05/04/2009.

Accession Number: 20090513-0246.

Comment Date: 5 p.m. Eastern Time on Tuesday, May 26, 2009.

Docket Numbers: ER09-1127-000.

Applicants: Wheelabrator South Broward Inc.

Description: Petition of Wheelabrator South Broward Inc for Order accepting market-based rate tariff for filing etc.

Filed Date: 05/14/2009.

Accession Number: 20090515-0105.

Comment Date: 5 p.m. Eastern Time on Thursday, June 4, 2009.

Docket Numbers: ER09-1131-000.

Applicants: Palmco Power CT, LLC.

Description: Palmco Power CT, LLC submits a Petition for Acceptance of Initial Rate Schedule, Waivers and Blanket Authority.

Filed Date: 05/14/2009.

Accession Number: 20090515-0109.

Comment Date: 5 p.m. Eastern Time on Thursday, June 4, 2009.

Docket Numbers: ER09-1132-000.

Applicants: Palmco Power NJ, LLC.

Description: Palmco Power NJ, LLC submits a Petition for Acceptance of Initial Rate Schedule, Waivers and Blanket Authority.

Filed Date: 05/14/2009.

Accession Number: 20090515-0108.

Comment Date: 5 p.m. Eastern Time on Thursday, June 4, 2009.

Docket Numbers: ER09-1133-000.

Applicants: Palmco Power PA, LLC.

Description: Palmco Power PA, LLC submits a Petition for Acceptance of Initial Rate Schedule, Waivers and Blanket Authority.

Filed Date: 05/14/2009.

Accession Number: 20090515-0107.

Comment Date: 5 p.m. Eastern Time on Thursday, June 4, 2009.

Docket Numbers: ER09-1137-000.

Applicants: Trans-Allegheny Interstate Line Company.

Description: Trans-Allegheny Interstate Line Co submits Second Revised Sheet No 314I.12 to FERC Electric Tariff, Sixth Revised Volume No. 1.

Filed Date: 05/13/2009.

Accession Number: 20090515-0111.

Comment Date: 5 p.m. Eastern Time on Wednesday, June 3, 2009.

Docket Numbers: ER09-1138-000.

Applicants: PJM Interconnection LLC.

Description: PJM Interconnection LLC submits an executed interconnection service agreement.

Filed Date: 05/13/2009.

Accession Number: 20090515-0110.

Comment Date: 5 p.m. Eastern Time on Wednesday, June 3, 2009.

Docket Numbers: ER09-1142-000.

Applicants: New York Independent System Operator, Inc.

Description: New York Independent System Operator, Inc submits its compliance filing, revisions to their Market Administration and Control Area Services and Open Access transmission Tariff, in compliance with Order 719.

Filed Date: 05/15/2009.

Accession Number: 20090518-0033.

Comment Date: 5 p.m. Eastern Time on Friday, June 12, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-12353 Filed 5-27-09; 8:45 am]

BILLING CODE 6717-01-P